ENVIRONMENTAL PROTECTION AGENCY

40 CFR Part 423

[EPA-HQ-OW-2009-0819; FRL-8794.3-03-OW]

RIN 2040-AG48

Effluent Limitations Guidelines and Standards for the Steam Electric Power Generating Point Source Category—Initial Notification Date Extension; Withdrawal of Direct Final Rule

AGENCY: Environmental Protection Agency (EPA).

ACTION: Withdrawal of direct final rule.

SUMMARY: Because the U.S. Environmental Protection Agency (EPA) received adverse comment, it is withdrawing the direct final rule entitled, “Effluent Limitations Guidelines and Standards for the Steam Electric Power Generating Point Source Category—Initial Notification Date Extension,” published in the Federal Register on October 2, 2025.

DATES: Effective November 28, 2025, the EPA withdraws the direct final rule published at 90 FR 47617, on October 2, 2025.

FOR FURTHER INFORMATION CONTACT: Richard Benware, Engineering and Analysis Division Office of Water (Mail Code 4303T), Environmental Protection Agency, 1200 Pennsylvania Avenue NW, Washington, DC 20460; telephone number: (202) 566-1369; email address: benware.richard@epa.gov.

SUPPLEMENTARY INFORMATION: Because the EPA received adverse comment, the Agency is withdrawing the direct final rule entitled, “Effluent Limitations Guidelines and Standards for the Steam Electric Power Generating Point Source Category—Initial Notification Date Extension,” published on October 2, 2025 (90 FR 47617). The EPA stated in that direct final rule that if it received adverse comment by November 3, 2025, the direct final rule would not take effect, and the EPA would publish a timely withdrawal in the Federal Register. Because the EPA subsequently received adverse comment on that direct final rule, it is withdrawing the direct final rule.

The EPA published a companion proposed rule on the same day as the direct final rule (90 FR 47693). The proposed rule invited comment on the substance of the direct final rule (as well as on additional subjects). The EPA will address those comments in a subsequent final action, which will be based on the companion proposed rule. As stated in the direct final rule and the companion proposed rule, the EPA will not institute a second comment period on this subject.

List of Subjects in 40 CFR Part 423

Environmental protection, Electric power generation, Power facilities, Waste treatment and disposal, Water pollution control.

Lee Zeldin,
Administrator.

Accordingly, as of November 28, 2025], the EPA withdraws the direct final rule amending 40 CFR part 423, which published at 90 FR 47617, on October 2, 2025.

[FR Doc. 2025-21426 Filed 11-26-25; 8:45 am]

BILLING CODE 6560-50-P